ENVIRONMENTAL PROTECTION AGENCY

[EPA-HQ-OPP-2008-0615; FRL-8378-7]

Petitions to Revoke All Tolerances Established for Endosulfan; Notice of Availability

AGENCY: Environmental Protection Agency (EPA).

ACTION: Notice.

SUMMARY: This notice asks the public to comment on requests from the Natural Resources Defense Council (NRDC) and Pesticide Action Network North America (PANNA) that EPA revoke all tolerances for the organochlorine pesticide endosulfan. In addition, this notice solicits information on endosulfan residues in or on commodities consumed by Alaska Natives.

DATES: Comments must be received on or before October 20, 2008.

ADDRESSES: Submit your comments, identified by docket identification (ID) number EPA-HQ-OPP-2008-0615, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility’s normal hours of operation (8:30 a.m. to 4 p.m., Monday through Friday, excluding legal holidays). Special arrangements should be made for deliveries of boxed information. The Docket Facility telephone number is (703) 305-5805.

Instructions: Direct your comments to docket ID number EPA-HQ-OPP-2008-0615. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Tracy L. Perry, Special Review and Reregistration Division (7508P), Office of Pesticide Programs, Environmental Protection Agency, 1200 Pennsylvania Ave., NW., Washington, DC 20460-0001; telephone number: (703) 308-0128; fax number: (703) 308-8005; e-mail address: perry.tracy@epa.gov.

SUPPLEMENTARY INFORMATION:

I. General Information

A. Does this Action Apply to Me?

This action is directed to the public in general, and may be of interest to a wide range of stakeholders including: environmental, human health, and agricultural advocates; the chemical industry, pesticide users, and members of the public interested in the sale, distribution, or the use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

A. What Action is the Agency Taking?

EPA seeks public comment on petitions from the National Resources Defense Council (NRDC) and Pesticide Action Network North America (PANNA) requesting that EPA revoke all tolerances for endosulfan. These petitions, available in EPA-HQ-OPP-2008-0615, were submitted on February 19, 2008 in response to EPA’s 2007 human health and ecological effects assessment updates for endosulfan (Federal Register of November 16, 2007; 72 FR 64624; FRL-8339-5). The updated assessments, as well as the 2002 endosulfan registration eligibility decision, are available in the electronic docket at http://www.regulations.gov under docket number EPA-HQ-OPP-2007-0944.

Although the petitions requested both cancellation and revocation of tolerances, this notice is seeking public comment only on the requests to revoke all tolerances for residues of endosulfan established under section 408 of the Federal Food, Drug and Cosmetic Act (FFDCA), as amended by the Food Quality Protection Act (FQPA) and codified at 40 CFR 180.182.

EPA will issue a separate Federal Register notice in early 2009 soliciting public comment on the NRDC and PANNA petitions’ requests to cancel all uses of endosulfan under section 6 of the Federal Insecticide, Fungicide and Rodenticide Act (FIFRA) (7 U.S.C. 136d(b)). The notice will be issued in conjunction with a request for public comment on findings from an October 2008 Scientific Advisory Panel (SAP) meeting on Persistent Bioaccumulative Toxicants (PBTs).

Through this current notice, EPA is also soliciting information from the public on endosulfan residues in/on commodities consumed by Alaska Natives, as well as additional information on endosulfan bioaccumulation, persistence, toxicity, monitoring and transport, and ecological incidents. This information will support EPA compliance with Executive Order 12898, Federal Actions to Address Environmental Justice in Minority Populations and Low-Income Populations.

To-date, EPA has received and reviewed the following studies to better assess dietary risk to Alaska Natives from endosulfan residues:

1. Alaska Department of Environmental Conservation Fish Monitoring Program: Analysis of Organic Contaminants;

2. EPA Region 10 Columbia River Basin Fish Contaminant Survey 1996-1998;

3. EPA Region 10 Survey of Chemical Contaminants in Fish, Invertebrates, and Plants Collected in the Vicinity of Tyonek, Seldovia, Port Graham and Nanwalek and Cook Inlet, Alaska;

4. National Park Service Western Airborne Contaminants Assessment Project (WACAP) data; and

5. Kelly, et al. “Food Web-Specific Biomagnification of Persistent Organic Pollutants,” published July 13, 2007 in Science , vol. 317, no. 5835, pp. 236 - 239.

The studies listed in this unit are available in docket ID number EPA-HQ-OPP-2008-0615.

EPA asks that comments on the NRDC and PANNA petitions’ requests to revoke all tolerances for residues of endosulfan be submitted within 60 days. Submission of information on endosulfan residues in/on commodities consumed by Alaska Natives should also be submitted within 60 days.

B. What is the Agency's Authority for Taking this Action?

FFDCA section 408(d)(3), 21 U.S.C. 346a(d)(3)

List of Subjects

Environmental protection, Pesticides and pests.

Dated: August 12, 2008.
Steven Bradbury,
Director, Special Review and Reregistration Division, Office of Pesticide Programs.

[FR Doc. E8-19166 Filed 8-19-08; 8:45 am]

BILLING CODE 6560-50-S